DEPARTMENT OF LABOR

Employment and Training Administration

[TA-W-37,997]

Louisiana Pacific Corporation Western Division Hayden Lake, Idaho; Notice of Termination of Investigation

Pursuant to section 221 of the Trade Act of 1974, an investigation was initiated on August 21, 2000 in response to a worker petition which was filed by the company on behalf of workers at Louisiana Pacific Corporation, Western Division, Hayden Lake, Idaho.

The petitioner has requested that the petition be withdrawn. Consequently, further investigation in this case would serve no purpose, and the investigation has been terminated.

Signed in Washington, DC this 1st day of November, 2000.
Linda G. Poole,
Certifying Officer, Division of Trade Adjustment Assistance.

[FR Doc. 00-30623 Filed 11-30-00; 8:45 am]

BILLING CODE 4510-30-M